DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of April, 2001.

In order for an affirmative determination to be made and a certification of eligibility to apply for worker adjustment assistance to be issued, each of the group eligibility requirements of Section 222 of the Act must be met.

(1) That a significant number or protection of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,958; Moeller Rubber Products Co., Inc., Greenville, MS

TA-W-38,648; Sterling Last, LLC, Henderson, TN

TA-W-38,740; Eaton Corp., Torque Control Products Div., Marshall, MI

TA-W-38,703; Olsonite Corp., Algoma, WI

TA-W-38,748; Thompson River Lumber Co., Thompson Falls, MT

TA-W-38,675; Earl Soesbe Co., Inc., Rensselaer, IN

In the following cases, the investigation revealed that the criteria for eligibility have not been met for the reasons specified.

Increased imports did not contribute importantly to worker separations at the firm.

TA-W-38,839; ASARCO, Inc., East Helena Plant, East Helena, MT

TA-W-38,724; Lear Corp., Formerly Known as United Technologies, Inc., Linden Avenue Plant, Zanesville, OH

TA-W-38,861; Brach Confections, Inc., Chicago, IL

TA-W-38,048; Invensys Powerware Corp., a/k/a Best Power, Necedah, WI

TA-W-38,510; VF Imagewear East (Formerly VF Knitwear), Nutmeg Mills and The 39th Street Facility, Tampa, FL

TA-W-38,883; Graphic Packaging Corp., Portland, OR

Affirmative Determinations for Worker Adjustment Assistance

The following certifications have been issued; the date following the company name and location of each determination references the impact date for all workers of such determination.

TA-W-39,047; Rayovac Corp., Wonewoc, WI: March 28, 2000.

TA-W-38,943; Stant Manufacturing, Inc., Connersville, IN: March 9, 2000.

TA-W-38,835; Allegheny Color Corp., Ridgway, PA: February 15, 2000.

TA-W-38,603; The Daniel Green Co., Dolgeville, NY: August 12, 2000.

TA-W-38,926; Procon Products, Murfreesboro, TN: March 1, 2000.

TA-W-38,729; CAE Newnes, Inc., Sherwood, OR: February 8, 2000.

TA-W-38,756; Motor Products, Owosso, MI: February 12, 2000.

TA-W-38,683; Didde Web Press, Emporia, KS: January 22, 2000.

TA-W-38,942; ISP Minerals, Kremlin Plant, Pembine, WI: March 14, 2000.

TA-W-38,725; Ametek/Dixson, Grand Junction, CO: February 9, 2000.

TA-W-38,523; Morris Material Handling, Inc., Oak Creek, WI: December 20, 1999.

TA-W-38,471; Dura Automotive Systems, Inc., East Jordan Brake Operations, East Jordan, MI: December 6, 1999.

TA-W-38,713; Agrifrozen Foods, Woodburn, OR: February 9, 2000.

TA-W-38,508; VF Imagewear East (Formerly VF Knitwear), North Wilkesboro, NC: December 18, 1999.

TA-W-38,495 & A; VF Imagewear East (Formerly VF Knitwear), Martinsville, VA and Bassett, VA: December 13, 1999.

TA-W-38,731; Great Lakes Paper Co., Clifton, NJ: February 8, 2000.

TA-W-38,661; Converse, Inc., Mission, TX: February 2, 2000.

TA-W-38,583; Vision Legwear, LLC, Plant 1 and Plant 2, Spruce Pine, NC: January 29, 2000.

TA-W-38,782; Republic Technologies International, Canton, OH: February 11, 2000.

TA-W-39,005; Rayovac Corp., Fennimore, WI: February 21, 2000.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of April, 2001.

In order for an affirmative determination to be made and a certification of eligibility to apply for NAFTA-TAA the following group eligibility requirements of Section 250 of the Trade Act must be met:

(1) That a significant number or proportion of the workers in the workers' firm, or an appropriate subdivision thereof, (including workers in any agriculture firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04587; Thompson River Lumber Co., Thompson Falls, MT

NAFTA-TAA-04632; Rosboro Lumber Co., Mill A, Springfield, OR

NAFTA-TAA-04372; Bermo, Inc., Sauk Rapids, MN

NAFTA-TAA-04596; O and M Manufacturing, Inc., Cheboygan, MI

NAFTA-TAA-04625; Brach Confections, Inc., Chicago, IL

NAFTA-TAA-04716; Motor Products, Owosso, MI

NAFTA-TAA-04503; Earl Soesbe Co., Inc., Rensselaer, IN

NAFTA-TAA-04532; Olsonite Corp., Algoma, WI

NAFTA-TAA-04641; Graphic Packaging Corp., Portland, OR

NAFTA-TAA-04595; Eaton Corp., Torque Control Products Div., Marshall, MI

NAFTA-TAA-04713; Gateway, Inc., North Sioux City, SD

NAFTA-TAA-04660; Rayovac Corp., Fennimore, WI

NAFTA-TAA-04547; ASARCO, Inc., East Helena Plant, East Helena, MT

NAFTA-TAA-04385; Dura Automotive Systems, Inc., East Jordan Brake Operations, East Jordan, MI

NAFTA-TAA-04553; Lear Corp., Formerly Known as United Technologies Automotive, Inc., Linden Avenue Plant, Zanesville, OH

The investigation revealed that the criteria for eligibility have not been met for the reasons specified.

The investigation revealed that criteria (1) and (2) have not been met. A significant number or proportion of the workers did not become totally or partially separated from employment as required for certification. Sales or production did not decline during the relevant period as required for certification.

NAFTA-TAA-04422; VF Imagewear East (Formerly VF Knitwear), Nutmeg Mills and The 39th Street Facility, Tampa, FL

The investigation revealed that criteria (2) has not been met. Sales or production did not decline during the relevant period as required for certification.

NAFTA-TAA-04671; Weyerhaeuser Co., Western Lumber/Wood Products, Green Mt. Longview Lumber, Longview, WA

Affirmative Determinations NAFTA-TAA

NAFTA-TAA-04407; Morris Material Handling, Inc., Oak Creek, WI: December 18, 1999.

NAFTA-TAA-04412; VF Imagewear East (Formerly VF Knitwear), North Wilkesboro, NC: December 18, 1999.

NAFTA-TAA-04543; Agrifrozen Foods, Woodburn, OR: February 9, 2000.

NAFTA-TAA-04405 & A; VF Imagewear East (Formerly VF Knitwear), Martinsville, VA and Basset, VA: December 13, 1999.

NAFTA-TAA-04673; Maxi Switch, Inc., Tucson, AZ: March 26, 2000.

NAFTA-TAA-04465; Vision Legwear, LLC, Plant 1 and Plant 2, Spruce Pine, NC: January 17, 2000.

NAFTA-TAA-04404 & A; Hedstrom Lumber Co., Inc., Two Harbors Div., Two Harbors, MN and Grand Marais Div., Grand Harais, MN: December 26, 1999.

NAFTA-TAA-04654; Burns Philip Food, Inc., Fleischmann's Yeast, Oakland, CA: March 9, 2000.

NAFTA-TAA-04538; Chinatex America, Inc., New York, NY: January 26, 2000.

NAFTA-TAA-04500; Merit Abrasive Products, Compton, CA: January 30, 2000.

NAFTA-TAA-04536; Thrall Car, Thrall North American Rail Car, Chicago Heights, IL: January 15, 2000.

I hereby certify that the aforementioned determinations were issued during the month of April, 2001. Copies of these determinations are available for inspection in Room C-5311, U.S. Department of Labor, 200 Constitution Avenue, NW., Washington, DC 20210 during normal business hours or will be mailed to persons who write to the above address.

Dated: April 23, 2001.
Edward A. Tomchick,
Director, Division of Trade Adjustment Assistance.

[FR Doc. 01-11101 Filed 5-2-01; 8:45 am]

BILLING CODE 4510-30-M